DEPARTMENT OF TRANSPORTATION

Office of the Secretary

Notice of Applications for Certificates of Public Convenience and Necessity and Foreign Air Carrier Permits Filed Under Subpart B (Formerly Subpart Q) During the Week Ending August 22, 2008

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0066.

Date Filed: August 19, 2008.

Due Date for Answers, Conforming Applications, or Motion to Modify Scope: September 9, 2008.

Description: Application of Hainan Airlines Co. Limited (“Hainan Airlines”) requesting an exemption and amended foreign air carrier permit authorizing it to engage in charter foreign air transportation of persons, property and mail between a point or points in the People's Republic of China, on the one hand, and a point or points in the United States, on the other hand, and to engage in other charters. Hainan Airlines also requests a statement of authorization under Part 212 to perform a single charter flight between October 19-21, 2008.

Renee V. Wright,
Program Manager, Docket Operations, Federal Register Liaison.

[FR Doc. E8-21054 Filed 9-9-08; 8:45 am]

BILLING CODE 4910-9X-P